DEPARTMENT OF TRANSPORTATION

Office of the Secretary

Notice of Applications for Certificates of Public Convenience and Necessity and Foreign Air Carrier Permits Filed Under Subpart B (formerly Subpart Q) during the Week Ending July 25, 2003

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1998-4330.

Date Filed: July 23, 2003.

Due Date for Answers, Conforming Applications, or Motion to Modify Scope: August 13, 2003.

Description: Amendment of Air Tahiti Nui, pursuant to 49 U.S.C. Section 41302, 14 CFR 211.20 and subpart B, requesting that its application for an initial foreign air carrier permit be expanded to operate scheduled international air transportation, on inter alia, Route 4, which allows operation of service from points behind French Polynesia via French Polynesia and intermediate points to a point or points in the United States and beyond.

Docket Number: OST-2001-10529.

Date Filed: July 23, 2003.

Due Date for Answers, Conforming Applications, or Motion to Modify Scope: August 13, 2003.

Description: Application of Arizona Express Airlines Inc., requesting a waiver from the 45-Day filing requirement for renewal of its commuter authority.

Docket Number: OST-2002-12683.

Date Filed: July 24, 2003.

Due Date for Answers, Conforming Applications, or Motion to Modify Scope: August 14, 2003.

Description: Application of Evergreen International Airlines, Inc., requesting the start-up period for its experimental certificate of public convenience and necessity for Route 816 be extended through September 23, 2003.

Andrea M. Jenkins,
Program Manager, Docket Operations, Federal Register Liaison.

[FR Doc. 03-20417 Filed 8-8-03; 8:45 am]

BILLING CODE 4910-62-P